DEPARTMENT OF TRANSPORTATION

Federal Aviation Administration

14 CFR Part 95

[Docket No. 30495; Amdt. No. 461]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, June 8, 2006.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on May 9, 2006.
James J. Ballough,
Director, Flight Standards Service.

Adoption of the Amendment

Accordingly, pursuant to the authority delegated to me by the Administrator, part 95 of the Federal Aviation Regulations (14 CFR part 95) is amended as follows effective at 0901 UTC, February 16, 2006.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 461 effective date, June 08, 2006]
From | To | MEA
§ 95.1001 Direct Routes—U.S.
Color Routes
§ 95.4 Green Federal Airway G7 Is Amended To Delete
Norton Bay, AK NDB | Bishop, AK NDB | 5800
Bishop, AK NDB | Birch, AK LF INT | 5800
* 5000-MOCA
Birch, AK LF INT | Nenas AK LF INT | 4100
Nenas, AK LF INT | Chena, AK NDB | 4100
§ 95.4 Green Federal Airway G7 Is Amended To Read In Part
Gambell, AK NDB/DME | Fort Davis, AK NDB | 3000
§ 95.20 Red Federal Airway R4 Is Added To Read
Bear Creek, AK NDB | Chena, AK NDB | 5000
§ 95.2 Red Federal Airway R50 Is Amended To Delete
Anvik, AK NDB/DME | Bishop, AK NDB | 4800
Bishop, AK NDB | Bear Creek, AK NDB | 6000
Bear Creek, AK NDB | Chena, AK NDB | 5000
§ 95.60 Blue Federal Airway B4 Is Amended To Delete
Bishop, AK NDB | Utopia Creek, AK NDB | *7000
* 5900-MOCA
§ 95.60 Blue Federal Airway B12 Is Amended To Delete
Takotna River, AK NDB | Bishop, AK NDB | * 6000
* 5500-MOCA
Bishop, AK NDB | Hotham, AK NDB | * 6000
* 5300-MOCA

From | To | MEA | MAA
§ 95.4000 High Altitude RNAV Routes
§ 95.4210 RNAV Route T210 Is Added To Read
Taylor, FL VORTAC | Brado, FL FIX | 1900 | 9000

From/To | Total distance | Changeover distance | Point from | Track angle | MEA | MAA
§ 95.5000 Ground-Based High Altitude RNAV Routes
J804R
Anchorage, AK VOR/DME | 61.2 |  |  |  | 18000 | 45000
Nowel, AK |  |  |  | 130/310 to Nowel |  |
Nowel, AK | 94.0 |  |  |  | 18000 | 45000
Middleton Island, AK VOR/DME |  |  |  | 132/312 to Middleton Island |  |
Middleton Island, AK VOR/DME | 170.9 | 121.0 | Middleton Island | 121/301 to Cop | 24000 | 45000
Snout, AK |  |  |  | 121/301 to Snout |  |
Snout, AK | 196.9 | 65.0 | Snout | 125/305 to Cop | 24000 | 45000
Eeden, AK |  |  |  | 125/305 to Eeden |  |
Eeden, AK | 153.9 | 112.0 | Eeden | 130/310 to Cop | 24000 | 45000
Fried, AK |  |  |  | 130/310 to Fried |  |

From | To | MEA
§ 95.6001 Victor Routes—U.S.
§ 95.6190 VOR Federal Airway V190 Is Amended To Read in Part
Peaks, AZ FIX | Teddi, AZ FIX |
| NE BND | 13000
| SW BND | 10000
Teddi, AZ FIX | * Salts, AZ FIX | ** 13000
* 14000-MRA
** 9700-MOCA

From | Airway Segment: To | Changeover Points: Distance | Changeover Points: From
§ 95.8003 VOR Federal Airway Changeover Points
§ 95.803 VOR Is Amended To Modify Changeover Point
Phoenix, AZ VORTAC | St Johns, AZ VORTAC | 67 | Phoenix.

[FR Doc. 06-4477 Filed 5-11-06; 8:45 am]

BILLING CODE 4910-13-P